DEPARTMENT OF THE INTERIOR

Fish and Wildlife Service

[FWS-R3-FAC-2020-N122; FF03F22900/FRFR481203YA200/XXX; OMB Control Number 1018-New]

Agency Information Collection Activities; Online Program Management System for Carbon Dioxide-Carp

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before March 12, 2021.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-Asian Carp” in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Lacey Act (Act, 18 U.S.C. 42) prohibits the importation of any animal deemed to be and prescribed by regulation to be injurious to:

• Human beings;

• The interests of agriculture, horticulture, and forestry; or

• Wildlife or the wildlife resources of the United States.

Implementation and enforcement of the Lacey Act is the responsibility of the Department of the Interior. The Service, in concert with our diverse partners, works to conserve, restore, and maintain the nation's fishery resources and aquatic ecosystems for the benefit of the American people, to include managing and controlling four species of invasive carp—bighead, black, grass, and silver—native to Asia. Under the authority of the Act, the Service listed bighead, black, and silver carp species as injurious wildlife to protect humans, native wildlife, and wildlife resources from the purposeful or accidental introduction of Asian carp into the nation's aquatic ecosystems.

The Service takes part in a broad, partner-driven approach to strategically control the movement of Asian carp. The spread of these invasive species in the nation's river systems threatens the conservation efforts conducted by our agency, our State partners, and other stakeholders, to promote self-sustaining aquatic resources and healthy aquatic ecosystems. In addition to widespread and longstanding ecological consequences, aquatic invasive species often result in significant economic losses and cost our nation's economy billions of dollars per year.

To effectively carry out our responsibilities under the Act and protect the aquatic resources of the United States, the Service, in collaboration with the U.S. Geological Survey, proposes to administer applications of Carbon Dioxide-Carp by registered management partners (applicators) and to collect information regarding the usage of Carbon Dioxide-Carp, an Environmental Protection Agency (EPA) registered product #6704-95 to control Asian carp. Carbon Dioxide-Carp is approved for use only by the U.S. Fish and Wildlife Service, U.S. Geological Survey, U.S. Army Corps of Engineers, State natural resource managers, or persons under their direct supervision.

The Service will use the information collected to document the label requests, maintain inventory, and document application results of Carbon Dioxide-Carp as an EPA registered product. The Service proposes to collect information from applicators using the following four forms:

• Form 3-2130: Report on Receipt of Label—Applicators must apply for a label to attach to a treatment container of Carbon Dioxide-Carp prior to being able to legally apply it as an Asian carp deterrent or as an under-ice lethal control for aquatic nuisance species. This form collects the following information:

○ Applicant's information, to include address, date of birth, contact number(s), email address, and relevant business information (if application is on behalf of a business, corporation, public agency, Tribe, or institution);

○ Date of label receipt;

○ Site of application, to include GPS location, approximate number of surface acres, and date of application;

○ Label number; and

○ Name and address of applicator.

• Form 3-2163: Inventory Form for Use with Carbon Dioxide-Carp—Registered applicators must maintain an accurate inventory of CO2- Carp for the duration of possession of the product label. This form collects the following information:

○ Applicant's information, to include address, date of birth, contact number(s), email address, and relevant business information (if application is on behalf of a business, corporation, public agency, Tribe, or institution);

○ Date of application;

○ Amount of Carbon Dioxide-Carp applied (pounds);

○ Label number;

○ Label return date;

○ Any adverse incident; and

○ Name of applicator and affiliation.

• Form 3-2164: Worksheet for Field Application Locations—Applicators must complete Form 3-2164 for each application of Carbon Dioxide-Carp before the actual application. This form collects the following information:

○ Applicant's information, to include address, date of birth, contact number(s), email address, and relevant business information (if application is on behalf of a business, corporation, public agency, Tribe, or institution);

○ Site information, to include the name and address of the location; applicator name, address, telephone number, and email address; and the applicator's certification number; and

○ Carbon Dioxide-Carp use information, to include estimated pounds of CO2 needed, estimated dates of use, purpose, and a list of obtained permits.

• Form 3-2191: Results Report Form—Investigator must submit application results to the Service to document efficacy of the treatment and any possible adverse effects, as this data is required by the EPA to maintain product registration. This form collects the following information:

○ Applicant's information, to include address, date of birth, contact number(s), email address, and relevant business information (if application is on behalf of a business, corporation, public agency, Tribe, or institution);

○ Site information (to include GPS coordinates and city/county/state) and reporting individual; and

○ Application information, to include total amount of Carbon Dioxide-Carp used (pounds); application date(s); adverse incident information (to include date reported to the U.S. Geological Society); applicator name and label number; NPDES Permit number; and other required permits and permit numbers.

• Form 3-2541: 6(a)(2) Adverse Incident Report—Investigator must submit application adverse results to the Service to document any irregularities in the application circumstances or adverse effects on non-target organisms. This form collects the following information:

○ Administrative data, to reporting and contact individual (if different), address and phone number, incident status, location and date of incident, when registrant became aware of incident, and whether incident was part of a larger study;

○ Pesticide data, to include whether exposure was to concentrate prior to dilution;

○ Incident circumstances, to include whether there is evidence that label directions were not followed, whether applicator is a certified pest control operator, type of exposure, incident site, situation, and brief description of habitat and incident circumstances; and

○ Information involving fish, wildlife, plants, or other non-target organisms; species; symptoms or adverse effects; magnitude of the effects; and any explanatory or qualifying information surrounding the incident.

ePermits Initiative

We are exploring the feasibility of using the Service's new “ePermits” initiative, an automated permit application system that will allow the agency to move towards a streamlined permitting process to reduce public burden. The ePermits platform would automate the five forms associated with this proposed information collection. Public burden reduction is a priority for the Service, the Assistant Secretary for Fish and Wildlife and Parks, and senior leadership at the Department of the Interior. The intent of the ePermits initiative is to fully automate the permitting and reporting process to improve the customer experience and to reduce time burden on respondents. This new system will enhance the user experience by allowing users to enter data from any device that has internet access, including personal computers, tablets, and smartphones. It will also link the permit applicant to the Pay.gov system for payment of any associated fees.

Title of Collection: Online Program Management System for Carbon Dioxide-Carp.

OMB Control Number: 1018-New.

Form Number: FWS Forms 3-2130, 3-2163, 3-2164, 3-2191, and 3-2541.

Type of Review: New.

Respondents/Affected Public: State and Tribal governments.

Total Estimated Annual Nonhour Burden Cost: $15,000.00. We estimate that each of the anticipated 10 annual respondents would pay an EPA Maintenance fee of $400, a State registration fee of $252; and an administrative fee of $858.

Requirement | Average number of annual respondents | Average number of responses each | Average number of annual responses | Average completion time per response (min) | Estimated annual burden hours *
Form 3-2130: Report on Receipt of Label
Government | 5 | 1 | 5 | 15 | 1
ePermits Form 3-2130: Report on Receipt of Label
Government | 5 | 1 | 5 | 12 | 1
Form 3-2163: Inventory Form for Use with Carbon Dioxide-Carp
Government | 5 | 1 | 5 | 15 | 1
ePermits Form 3-2163: Inventory Form for Use with Carbon Dioxide-Carp
Government | 5 | 1 | 5 | 12 | 1
Form 3-2164: Worksheet for Field Application Locations
Government | 5 | 1 | 5 | 15 | 1
ePermits 3-2164: Worksheet for Field Application Locations
Government | 5 | 1 | 5 | 12 | 1
Form 3-2191: Results Report Form
Government | 5 | 1 | 5 | 15 | 1
ePermits Form 3-2191: Results Report Form
Government | 5 | 1 | 5 | 12 | 1
Form 3-2541: 6(a)(2) Adverse Incident Report
Government | 1 | 1 | 1 | 60 | 1
ePermits Form 3-2541: 6(a)(2) Adverse Incident Report
Government | 1 | 1 | 1 | 50 | 1
Totals: | 42 |  | 42 |  | 10
* Rounded.

An agency may not conduct or sponsor and a person is not required to respond to a collection of information unless it displays a currently valid OMB control number.

The authority for this action is the Paperwork Reduction Act of 1995 (44 U.S.C. 3501 et seq.).

Dated: January 5, 2021.
Madonna Baucum,
Information Collection Clearance Officer, U.S. Fish and Wildlife Service.

[FR Doc. 2021-00206 Filed 1-8-21; 8:45 am]

BILLING CODE 4333-15-P